FEDERAL EMERGENCY MANAGEMENT AGENCY

Fire Defense Deployment Analysis Project

AGENCY: Federal Emergency Management Agency (FEMA)/ United States Fire Administration (USFA).

ACTION: Notice of funds availability for cooperative agreement.

SUMMARY: FEMA gives notice of the availability of funds for research and develop to update a methodology on “Fire Defense Deployment Analysis”, first developed by the Rand Corporation in 1968. We (FEMA) propose to enter a cooperative agreement to conduct research and to develop an updated/current methodology.

DATES: Cooperative Agreement funds are immediately available. Requests for copies of the “Assistance Application Package” must be received by close of business, March 28, 2000.

ADDRESSES: Eligible/interested parties wishing to obtain a copy of the “Assistance Application Package” should contact: Gregory S. Blair, National Emergency Training Center, Building E, room 115, 16825 South Seton Avenue, Emmitsburg, MD 21727, (301) 447-1455, (telefax) (301) 447-1092, or (email) greg.blair@fema.gov.

FOR FURTHER INFORMATION CONTACT: Gregory S. Blair, National Emergency Training Center, Building E, room 115, 16825 South Seton Avenue, Emmitsburg, MD 21727, (301) 447-1455, (telefax) (301) 447-1092, or (email) greg.blair@fema.gov.

SUPPLEMENTARY INFORMATION: The methodology concerned, “Fire Defense Deployment Analysis”, was initially developed by the Rand Corporation in 1968, on behalf of the City of New York. The Department of Housing & Urban Development (HUD) funded and continued research on this methodology through the mid-1970's before discontinuing it. The current methodology has not been researched or updated since the mid-1970's, and is now over twenty-five years old. Therefore, FEMA, acting through the USFA, asks for help to conduct research and development on an updated/current methodology.

Qualifications: Interested sources wishing to support the National Emergency Training Center (NETC), U.S. Fire Administration (USFA), should be an “Institution of Higher Learning” (IHL) with the ability and knowledge resource base to conduct the review of the validity of public fire defense deployment methodologies that are currently referred to when identifying average public fire defense apparatus speed, point-to-point time/distance and unit availability models. Interested sources should have extensive experience and demonstrated abilities to conduct detailed analytical public policy research efforts, and should have a professional staff with a wide variety of qualifications and demonstrated understanding and knowledge of the specified subject area. Specific qualifications include:

(1) Advanced degrees that include a wide variety of related fields such as: fire protection engineering, public policy or public administration, urban studies or urban planning and operations research;

(2) Knowledge and authority of fire defense deployment analysis models demonstrated through a variety of combined venues such as: published studies and reports, lectures, instruction at the university level and consultation, particularly as to the characteristics of local land-use patterns and other features of the physical environment as well as vehicular traffic densities and pertinent cultural or demographic issues that may impact public fire defenses;

(3) Knowledge and authority in operations research demonstrated through a variety of documented venues such as published studies and reports, lectures, instruction at the university level and consultation;

(4) Experience in the development and implementation of long-range fire defense planning and fire station location models.

Dated: February 29, 2000.
Carrye B. Brown,
U.S. Fire Administrator.

[FR Doc. 00-5402 Filed 3-6-00; 8:45 am]

BILLING CODE 6718-01-P